DEPARTMENT OF THE INTERIOR

National Park Service

[NPS-WASO-NAGPRA-20127; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum (Burke Museum) has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Burke Museum. If no additional requestors come forward, transfer of control of the human remains to the Indian tribes or Native Hawaiian organizations stated in this notice may proceed.

DATES: Representatives of any Indian tribe or Native Hawaiian organization not identified in this notice that wish to request transfer of control of these human remains should submit a written request with information in support of the request to the Burke Museum at the address in this notice by March 21, 2016.

ADDRESSES: Peter Lape, Burke Museum, University of Washington, Box 353010, Seattle, WA 98195, telephone (206) 685-3849x2, plape@uw.edu.

SUPPLEMENTARY INFORMATION: Notice is here given in accordance with the Native American Graves Protection and Repatriation Act (NAGPRA), 25 U.S.C. 3003, of the completion of an inventory of human remains under the control of the Burke Museum, University of Washington, Seattle, WA. The human remains were possibly removed from the San Juan Islands, San Juan Island County, WA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Burke Museum professional staff in consultation with representatives of Lummi Tribe of the Lummi Reservation; Muckleshoot Indian Tribe (previously listed as the Muckleshoot Indian Tribe of the Muckleshoot Reservation, Washington); Nooksack Indian Tribe; Samish Indian Nation (previously listed as the Samish Indian Tribe, Washington); Sauk-Suiattle Indian Tribe; Snoqualmie Indian Tribe (previously listed as the Snoqualmie Tribe, Washington); Stillaguamish Tribe of Indians of Washington (previously listed as the Stillaguamish Tribe of Washington); Suquamish Indian Tribe of the Port Madison Reservation; Swinomish Indian Tribal Community (previously listed as the Swinomish Indians of the Swinomish Reservation of Washington); Tulalip Tribes of Washington (previously listed as the Tulalip Tribes of the Tulalip Reservation, Washington); and Upper Skagit Indian Tribe, (all hereafter referred to as the “The Tribes”).

History and Description of the Remains

On an unknown date prior to 1995, human remains representing, at minimum, one individual were possibly removed from San Juan Islands, San Juan Island County, Washington. These remains were identified in 1995 while completing an inventory for NAGPRA compliance. These human remains were located in a box of material marked “Anian Island Burial 3F.” The human remains were in a paper-bag marked “Burial 3”. Also written on the bag in the same pencil, but crossed out, is, “SJ-1, Finds, 7/18/46.”. These human remains to do not match any of the records for the Anian Island burial. They also do not match “Burial 3” from Arden King's 1946 excavations at 45-SJ-1 and there is no mention of burials being found on 7/18/1946 in the field documents. The condition of these human remains is consistent with other burials in shell middens from this area. Additional information provided during consultation indicated this individual was likely buried on the San Juan Islands. The Burke Museum is unable to make a cultural affiliation due to the lack of contextual and exact location information from which the burial was removed. No known individuals were identified. No associated funerary objects are present.

Determinations Made by the Burke Museum

Officials of the Burke Museum have determined that:

• Pursuant to 25 U.S.C. 3001(9), the human remains described in this notice are Native American based on osteological evidence and museum collecting and accessioning history.

• Pursuant to 25 U.S.C. 3001(9), the human remains described in this notice represent the physical remains of one individual of Native American ancestry.

• Pursuant to 25 U.S.C. 3001(2), a relationship of shared group identity cannot be reasonably traced between the Native American human remains and any present-day Indian tribe.

• Treaties, Acts of Congress, or Executive Orders, indicate that the land from which the Native American human remains were removed is the aboriginal land of The Tribes. The Treaty of Point Elliot was signed on January 22, 1855 by representatives from The Tribes, and ceded aboriginal land included the San Juan Islands region.

• Pursuant to 43 CFR 10.11(c)(1), the disposition of the human remains may be to The Tribes.

Additional Requestors and Disposition

Representatives of any Indian tribe or Native Hawaiian organization not identified in this notice that wish to request transfer of control of these human remains should submit a written request with information in support of the request to Peter Lape, Burke Museum, University of Washington, Box 353010, Seattle, WA 98195, telephone (206) 685-3849 x2, plape@uw.edu, by March 21, 2016. After that date, if no additional requestors have come forward, transfer of control of the human remains to The Tribes may proceed.

The Burke Museum is responsible for notifying The Tribes that this notice has been published.

Dated: January 15, 2016.
David Tarler,
Acting Manager, National NAGPRA Program.

[FR Doc. 2016-03412 Filed 2-17-16; 8:45 am]

BILLING CODE 4312-50-P